DEPARTMENT OF HEALTH AND HUMAN SERVICES

Health Resources and Services Administration

Division of Transplantation Extramural Grant Program: Model Interventions To Increase Organ and Tissue Donation

AGENCY: Health Resources and Services Administration, HHS.

ACTION: Notice of Availability of Funds.

SUMMARY: The Health Resources and Services Administration's (HRSA) Office of Special Programs (OSP), Division of Transplantation (DoT) announces that applications will be accepted for fiscal year (FY) 2000 for grants to support projects demonstrating model interventions to increase organ and tissue donation. The grant program will assist qualified organ procurement organizations (OPOs) and other private non-profit entities eligible for funds under Section 371(a)(3) of the Public Health Service (PHS) Act , 42 U.S.C. 273(a)(3), as amended. HRSA/OSP/DoT invites applications from consortia of institutions/organizations to participate in the FY 2000 grant program.

Availability of Funds

The estimated total funds available for the first year of support (direct and indirect costs) for all awards made under this grant program in FY 2000 will be up to $1.5 million. HRSA anticipates funding 8-10 projects. It is anticipated that the cost range for each project year will be $100,000-$300,000 per award; however, projects that fall outside that range also will be considered. The total project period for applications submitted in response to this program announcement may not exceed three years.

Eligible Applicants

Eligible applicants are consortia consisting at a minimum of the following two types of organizations/institutions: (1) At least one organization/institution with demonstrated expertise and experience in research and evaluation design and methods in the behavioral and social sciences; and (2) at least one organization/institution with demonstrated expertise and experience in organ donation, including but not limited to: OPOs, hospitals, and other health care organizations; national or regional associations; community-based service organizations; and public health or other government agencies. One member of each consortium shall serve as the primary applicant institution, which is required to be a private non-profit institution.

DATES: A letter of intent to submit an application is requested by June 8, 2000. Applications for this announced grant must be postmarked no later than July 11, 2000 to be considered for competition. Applications shall be considered as meeting the deadline if they are: (1) received on or before the deadline date; or (2) postmarked on or before the deadline date and received in time for orderly processing and submission to the review committee. Applications received with a postmark after 7-11-2000 will not be accepted.

ADDRESSES: Application kits, which include detailed instructions, are available through the HRSA Grant Application Center (telephone: 1-877-477-2123, or e-mail: hrsagac@hrsa.gov). The program announcement also can be obtained by accessing any of the following three Web sites: www.hrsa.gov, www.hrsa.gov/osp/dot, or www.organdonor.gov. Letters of intent to submit an application should be mailed to Dr. Mary L. Ganikos, Chief, Education Branch, DoT, OSP, HRSA, 5600 Fishers Lane, Parklawn Building, Room 7C-22, Rockville, Maryland 20857. All applications must be mailed or delivered to HRSA Grants Application Center, 1815 N. Fort Meyer Drive, Suite 300 Arlington, VA 22209.

FOR FURTHER INFORMATION CONTACT: Additional information may be obtained from Dr. Mary L. Ganikos, at the address above or via the following contact information: telephone—(301) 443-7577; fax—(301) 443-1267; or e-mail—mganikos@hrsa.gov.

Dated: May 16, 2000.
Claude Earl Fox,
Administrator.

[FR Doc. 00-12752 Filed 5-19-00; 8:45 am]

BILLING CODE 4160-15-P